DEPARTMENT OF ENERGY

Energy Information Administration

Agency Information Collection Extension

AGENCY: U.S. Energy Information Administration (EIA), Department of Energy.

ACTION: Notice and request for OMB review and comment.

SUMMARY: The EIA has submitted an information collection request to the OMB for extension under the provisions of the Paperwork Reduction Act of 1995. The information collection requests a three-year extension of its Uranium Data Program, OMB Control Number 1905-0160. The proposed collection will continue the use of Form EIA-851A “Domestic Uranium Production Report (Annual),” Form EIA-851Q “Domestic Uranium Production Report (Quarterly),” and the Form EIA-858 “Uranium Marketing Annual Survey.” EIA proposed no changes to Forms EIA-851A, EIA-851Q, and EIA-858.

DATES: Comments regarding this proposed information collection must be received on or before August 27, 2015. If you anticipate that you will be submitting comments, but find it difficult to do so within the period of time allowed by this notice, please advise the DOE Desk Officer at OMB of your intention to make a submission as soon as possible. The Desk Officer may be telephoned at 202-395-4718.

ADDRESSES: Written comments should be sent to the DOE Desk Officer, Office of Information and Regulatory Affairs, Office of Management and Budget, New Executive Office Building, Room 10102, 735 17th Street NW., Washington, DC 20503, and to Douglas Bonnar, Operations Research Analyst, Fax at 202-586-3045, Email at douglas.bonnar@eia.gov.

FOR FURTHER INFORMATION CONTACT: Requests for additional information should be directed to Douglas Bonnar, douglas.bonnar@eia.gov. The information collection instruments and instructions are available on the EIAWeb site at http://www.eia.gov/survey/#uranium.

SUPPLEMENTARY INFORMATION: This information collection request contains:

(1) OMB No.: 1905-0160;

(2) Information Collection Request Title: Uranium Data Program;

(3) Type of Request: Three-year extension;

(4) Purpose: Uranium Data Program is intended to collect high-quality statistical data on domestic uranium supply and demand activities, including production, exploration and development, trade, and purchases and sales available to the U.S. The audience for these data includes the Congress, other Executive Branch agencies, the nuclear and uranium industry, and the public in general. Form EIA-851A collects annual data from the U.S. uranium industry on uranium milling and processing, uranium feed sources, uranium mining, employment, drilling, expenditures, and uranium reserves. The data collected are published in EIA's Domestic Uranium Production Report—Annual, http://www.eia.gov/uranium/production/annual/. Form EIA-851Q collects monthly data from the U.S. uranium industry on uranium production and sources (mines and other) on a quarterly basis. The data collected are published in EIA's Domestic Uranium Production Report—Quarterly, http://www.eia.gov/uranium/production/quarterly/. Form EIA-858 collects annual data from the U.S. uranium market on uranium contracts, deliveries, inventories, enrichment services purchased, uranium use in fuel assemblies, feed deliveries to enrichers, and unfilled market requirements. Uranium deliveries, feed deliveries to enrichers, and unfilled market requirements are reported both for the current reporting year and for the following ten years. The data collected appear in the following EIA publications: Uranium Marketing Annual Report, http://www.eia.gov/uranium/marketing/ and Domestic Uranium Production Report—Annual, http://www.eia.gov/uranium/production/annual/;

(5) Annual Estimated Number of Respondents: 102;

(6) Annual Estimated Number of Total Responses: 169;

(7) Annual Estimated Number of Burden Hours: 1,207;

(8) Annual Estimated Reporting and Recordkeeping Cost Burden: EIA estimates that there are no additional costs to respondents associated with the surveys other than the costs associated with the burden hours. The information is maintained in the normal course of business. The cost of burden hours to the respondents is estimated to be $86,868 (1,207 burden hours times $71.97 per hour). Therefore, other than the cost of burden hours, EIA estimates that there are no additional costs for generating, maintaining and providing the information.

Statutory Authority: Section 13(b) of the Federal Energy Administration Act of 1974, Pub. L. 93-275, codified at 15 U.S.C. 772(b).

Issued in Washington, DC, on July 22, 2015.
Nanda Srinivasan,
Director, Office of Survey Development and Statistical Integration, U.S. Energy Information Administration.

[FR Doc. 2015-18524 Filed 7-27-15; 8:45 am]

BILLING CODE 6450-01-P